DEPARTMENT OF LABOR

Office of the Secretary

Submission for OMB Review: Comment Request

July 2, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Employee Benefits Security Administration (EBSA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title of Collection: Procedure for Application for Exemption from the Prohibited Transaction Provisions of Section 408(a) of the Employee Retirement Income Security Act of 1974 (ERISA).

OMB Control Number: 1210-0060.

Affected Public: Private Sector—Business or other for-profits.

Total Estimated Number of Respondents: 80.

Total Estimated Annual Burden Hours: 1,958.

Total Estimated Annual Costs Burden: $7,937.

Description: Section 408(a) of ERISA authorizes the Secretary of Labor to grant exemptions from the prohibited transaction sections of 406 and 407(a) of ERISA and directs the Secretary to establish a procedure with respect to such provisions. This regulation provides a procedure that requires applications for exemption to make certain disclosures to the Department of Labor and to participants and beneficiaries. For additional information, see related notice published at 73 FR 18301 on April 3, 2008.

Agency: Employee Benefits Security Administration.

Type of Review: Extension without change of currently approved collection.

Title of Collection: Application for EFAST-1 Electronic Signature and Codes for EFAST Transmitters and Software Developers.

OMB Control Number: 1210-0117.

Affected Public: Private Sector—Business or other for-profits.

Total Estimated Number of Respondents: 8,200.

Total Estimated Annual Burden Hours: 2,733.

Total Estimated Annual Costs Burden: $3,444.

Description: Form EFAST-1 is used by filers of Forms 5500 and 5500-EZ and software developers who wish to participate in an electronic filing program. EFAST-1 will transmit filer signatures and declarations to EFAST so that program participants may receive secure codes for electronic transmission. For additional information, see related notice published at 73 FR 18002 on April 2, 2008.

Agency: Employee Benefits Security Administration.

Type of Review: Extension without change of currently approved collection.

Title of Collection: Consent To Receive Employee Benefit Plan Disclosures Electronically.

OMB Control Number: 1210-0121.

Affected Public: Private Sector—Business or other for-profits.

Total Estimated Number of Respondents: 40,000.

Total Estimated Annual Burden Hours: 7,000.

Total Estimated Annual Costs Burden: $170,000.

Description: Regulations at 29 CFR 2520.104b-1 and 2520.107-1 govern the use of electronic technologies to satisfy information disclosure and recordkeeping requirements under Title I of the Employee Retirement Income Security Act of 1974, as amended (ERISA). Generally, consent is required to be obtained prior to providing disclosures electronically to participants and beneficiaries at a location other than the workplace. For additional information, see related notice published at 73 FR 18001 on April 2, 2008.

Darrin A. King,
Acting Departmental Clearance Officer.

[FR Doc. E8-15515 Filed 7-8-08; 8:45 am]

BILLING CODE 4510-29-P